DEPARTMENT OF STATE

[Public Notice 4592]

Name Change of Yugoslavia to Serbia and Montenegro

SUMMARY: On February 4, 2003, the Federal Republic of Yugoslavia changed its name to Serbia and Montenegro.

On February 4, 2003, the Parliament of the Federal Republic of Yugoslavia voted to adopt a new constitution establishing the state union of Serbia and Montenegro. On February 7, 2003, the U.S. Board on Geographic Names confirmed the following forms for official usage:

Old entry | New entry
Yugoslavia, Federal Republic of | Serbia and Montenegro.

The Serbian form of the name (Srbija i Crna Gora) is taken from the text of the Constitutional Charter in that language. The generic term used in the Charter, drzavna zajednica (literally “state union”) is not considered part of the state title. Therefore, both the short form and the long form of this independent state is Serbia and Montenegro.

The FIPS 10 geopolitical code remains as it was under the previous name, YI.

Dated: January 13, 2004.
Charles L. English,
Director, Office of South Central European Affairs, Department of State.

[FR Doc. 04-1354 Filed 1-21-04; 8:45 am]

BILLING CODE 1410-23-P